FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 6, 2014.

A. Federal Reserve Bank of Minneapolis (Jacqueline K. Brunmeier, Assistant Vice President) 90 Hennepin Avenue, Minneapolis, Minnesota 55480-0291:

1. The Ardath K. Solsrud 2012 Irrevocable Trust dated December 28, 2012, Robb B. Kahl, as trustee, and The Glenn A. Solsrud 2012 Irrevocable Trust dated December 28, 2012, Robb B. Kahl, as trustee, all of Monona, Wisconsin; to each acquire voting shares of Augusta Financial Corporation, and thereby indirectly acquire voting shares of Unity Bank, both in Augusta, Wisconsin.

2. The Ardath K. Solsrud 2012 Irrevocable Trust dated December 28, 2012, Robb B. Kahl, as trustee, and The Glenn A. Solsrud 2012 Irrevocable Trust dated December 28, 2012, Robb B. Kahl, as trustee, all of Monona, Wisconsin; to each voting shares of Caprice Corporation, Augusta, Wisconsin, and thereby indirectly acquire voting shares of Unity Bank North, Red Lake Falls, Minnesota.

Board of Governors of the Federal Reserve System, January 17, 2014.
Michael J. Lewandowski,
Associate Secretary of the Board.

[FR Doc. 2014-01279 Filed 1-22-14; 8:45 am]

BILLING CODE 6210-01-P